DEPARTMENT OF DEFENSE

GENERAL SERVICES ADMINISTRATION

NATIONAL AERONAUTICS AND SPACE ADMINISTRATION

48 CFR Chapter 1

[Docket FAR 2012-0081, Sequence 2]

Federal Acquisition Regulation; Federal Acquisition Circular 2005-57; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rule appearing in Federal Acquisition Circular (FAC) 2005-57, which amends the Federal Acquisition Regulation (FAR). Interested parties may obtain further information regarding this rule by referring to FAC 2005-57, which precedes this document. These documents are also available via the Internet at http://www.regulations.gov.

DATES: March 7, 2012.

FOR FURTHER INFORMATION CONTACT: For clarification of content, contact the analyst whose name appears in the table below. Please cite FAC 2005-57 and the FAR case number. For information pertaining to status or publication schedule, contact the Regulatory Secretariat at 202-501-4755.

List of Rule in FAC 2005-57
Subject | FAR case | Analyst
United States-Korea Free Trade Agreement (Interim) | 2012-004 | Erwin

SUPPLEMENTARY INFORMATION: A Summary for the FAR rule follows. For the actual revisions and/or amendments made by this FAR case, refer to FAR Case 2012-004.

FAC 2005-57 amends the FAR as specified below:

United States-Korea Free Trade Agreement (FAR Case 2012-004) (Interim)

This interim rule implements the United States-Korea Free Trade Agreement (see the United States-Korea Free Trade Agreement Implementation Act (Pub. L. 112-41) (19 U.S.C. 3805 note)).

The Republic of Korea is already party to the World Trade Organization Government Procurement Agreement (WTO GPA). This Free Trade Agreement now covers acquisition of supplies and services between $100,000 and the current WTO GPA threshold of $202,000. This interim rule is not expected to have a significant economic impact on a substantial number of small entities.

Dated: March 1, 2012.
Laura Auletta,
Director, Office of Governmentwide Acquisition Policy, Office of Acquisition Policy, Office of Governmentwide Policy.

[FR Doc. 2012-5530 Filed 3-6-12; 8:45 am]

BILLING CODE 6820-EP-P